DEPARTMENT OF COMMERCE

National Oceanic and Atmospheric Administration

RIN: 0648-XF31

New England Fishery Management Council; Public Meeting

AGENCY: National Marine Fisheries Service (NMFS), National Oceanic and Atmospheric Administration (NOAA), Commerce.

ACTION: Notice of a public meeting.

SUMMARY: The New England Fishery Management Council (Council) will hold a three-day Council meeting on February 12-14, 2008, to consider actions affecting New England fisheries in the exclusive economic zone (EEZ).

DATES: The meeting will be held on Tuesday, February 12 beginning at 9 a.m., and Wednesday and Thursday, February 13-14, beginning at 8:30 a.m.

ADDRESSES: The meeting will be held at the Sheraton Harborside Hotel, 250 Market Street, Portsmouth, NH 03801; telephone: (603) 431-2300.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, February 12, 2008

Following introductions and any announcements the Council will receive a series of brief reports from the Council Chairman and Executive Director, the NOAA Fisheries Northeast Regional Administrator, Northeast Fisheries Science Center and Mid-Atlantic Fishery Management Council liaisons, NOAA General Counsel, NOAA Enforcement and representatives of the U.S. Coast Guard and the Atlantic States Marine Fisheries Commission.

The Council also will review and approve a scoping document for Amendment 15 to the Sea Scallop Fishery Management Plan (FMP). Issues that are likely to be included are annual catch limits and accountability measures, measures to address excess capacity and allow sectors in the limited access scallop fishery and reconsideration of the current scallop overfishing definition. Following an brief opportunity for the public to address items that are otherwise not listed on the Council agenda, there will be a final review of several Council policies concerning enforcement, advisory panels and sectors. The day will conclude with an update on the development of the Amendment 3 to the Skate FMP.

Wednesday, February 13, 2008

The Council's Research Steering Committee Chairman will recommend approval of comments on the NMFS proposed rule that would revise the experimental fishery permit process and ask for consideration and approval of Council research priorities for 2008. The Council also will review the findings of the committee concerning any cooperative research final reports they have reviewed. As a separate agenda item, the Council will consider commenting on any current experimental fishery permit applications. The Habitat Committee will review and discuss its recommendations on the previously designated Southern Canyon Habitat Areas of Particular Concern (HAPCs) and possibly ask for approval of any modifications to those HAPCs. The last item of the day will involve review and approval of a process to consider additional gears for use in the Northeast Multispecies (Groundfish) Regular B Days-at-Sea Program and the U.S./Canada Haddock Special Access Program. The Council also will review and approve an annual catch limit alternative for Amendment 16 to the Northeast Multispecies FMP.

Thursday, February 14, 2008

Groundfish issues will be covered throughout the final day of the meeting and will include consideration and approval of alternatives to be analyzed for Amendment 16 to the Northeast Multispecies FMP, including but not limited to effort controls, sector administration, research set-asides, annual catch limits and accountability measures and allowing vessels to possess both a limited access scallop and a groundfish permit.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: January 23, 2008.
Tracey L. Thompson,
Acting Director, Office of Sustainable Fisheries, National Marine Fisheries Service.

[FR Doc. E8-1424 Filed 1-25-08; 8:45 am]

BILLING CODE 3510-22-S